LEGAL SERVICES CORPORATION

Sunshine Act Meeting: Board of Directors and Its Six Committees

AGENCY: Legal Services Corporation.

ACTION: Change notice.

SUMMARY: On July 12, 2016, the Legal Services Corporation (LSC) published a notice in the Federal Register (81 FR 45177) titled “Board of Directors and its Six Committees will meet on July 17-19, 2016, EDT”. The Governance and Performance Review Committee scheduled to meet on July 18, 2016 at 4:00 p.m., EDT, has added another item to the agenda as line item #6; all other items remain consecutively the same. This document changes the notice by revising the Governance and Performance Review Committee agenda by adding another item as line item #6.

Changes in the meeting: Governance and Performance Review Committee agenda revised to add the following.

6. Discussion of renewal of President's contract

DATES: This change is effective July 14, 2016.

FOR FURTHER INFORMATION CONTACT: Katherine Ward, Executive Assistant to the Vice President for Legal Affairs and General Counsel, Legal Services Corporation, 3333 K Street NW., Washington, DC 20007; (202) 295-1500; kward@lsc.gov.

Dated: July 14, 2016.
Katherine Ward,
Executive Assistant to the Vice President for Legal Affairs and General Counsel.

[FR Doc. 2016-17081 Filed 7-14-16; 4:15 pm]

BILLING CODE 7050-01-P